DEPARTMENT OF HEALTH AND HUMAN SERVICES

Administration for Children and Families

Proposed Information Collection Activity; Children's Bureau National Youth in Transition Database (NYTD) (OMB #0970-0340)

AGENCY: Children's Bureau, Administration for Children and Families, HHS.

ACTION: Request for public comment.

SUMMARY: The Administration for Children and Families (ACF) is requesting a 3-year extension of the National Youth in Transition Database (NYTD) Youth Services Report and Youth Outcomes Survey Data Collection (OMB #0970-0340, expiration date 03/31/2022). There are no changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The Foster Care Independence Act of 1999 (42 U.S.C. 1305 et seq.) as amended by Public Law 106-169 requires state child welfare agencies to collect and report to the ACF Children's Bureau data on the characteristics of youth receiving independent living services and information regarding their outcomes. The regulation implementing NYTD, listed in 45 CFR 1356.80, contains standard data collection and reporting requirements for states to meet the law's requirements. Additionally, the Family First Prevention Services Act of 2017 (H.R. 253) further outlines the expectation of the collection and reporting of data and outcomes regarding youth who are in receipt of independent living services. ACF uses the information collected under the regulation to track independent living services, assess the collective outcomes of youth, and potentially to evaluate state performance with regard to those outcomes consistent with the law's mandate.

Respondents: State agencies that administer the Chafee Foster Care Program for Successful Transition to Adulthood (Chafee program) and youth served by these agencies.

Annual Burden Estimates for 2022-2024
Information collection title | Total number of respondents | Total number of responses per respondent | Average burden hours per response | Total burden hours for 2022-24 | Annual burden hours
State Data File | 52 | 2 | 3916 | 407,264 | 135,755
Youth Outcomes Survey | 47,000 | 1 | .5 | 23,500 | 7,833
Estimated Annual Burden Total |  |  |  |  | 143,588

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: NYTD is authorized by Public Law 106-169, enacted December 14, 1999. This public law establishes the John H. Chafee Foster Care Independence Program, now known as Chafee program, at section 477 of the Social Security Act. NYTD data is collected pursuant to 45 CFR 1356.80.

Mary B. Jones,
ACF/OPRE Certifying Officer.

[FR Doc. 2021-28058 Filed 12-23-21; 8:45 am]

BILLING CODE 4184-01-P